DEPARTMENT OF TRANSPORTATION

Federal Aviation Administration

14 CFR Part 39

[Docket No. 2001-CE-01-AD; Amendment 39-12501; AD 2001-23-04]

RIN 2120-AA64

Airworthiness Directives; SOCATA—Groupe Aerospatiale Models TB 9, TB 10, TB 20, TB 21, and TB 200 Airplanes

AGENCY: Federal Aviation Administration, DOT.

ACTION: Final rule.

SUMMARY: This amendment adopts a new airworthiness directive (AD) that applies to all SOCATA—Groupe Aerospatiale (SOCATA) Models TB 9, TB 10, TB 20, TB 21, and TB 200 airplanes. This AD requires you to repetitively inspect the lower rudder hinge fitting for cracks. This AD also requires you to repair any crack found in accordance with a repair scheme obtained from the manufacturer through the Federal Aviation Administration (FAA). This AD is the result mandatory continuing airworthiness information (MCAI) issued by the airworthiness authority for France. The actions specified by this AD are intended to detect and correct fatigue cracks in the lower rudder hinge fitting. This condition could cause the lower rudder to detach from the control linkage with consequent loss of control of the airplane.

DATES: This AD becomes effective on January 4, 2002.

The Director of the Federal Register approved the incorporation by reference of certain publications listed in the regulations as of January 4, 2002.

ADDRESSES: You may get the service information referenced in this AD from SOCATA Groupe Aerospatiale, Customer Support, Aerodrome Tarbes-Ossun-Lourdes, BP 930—F65009 Tarbes Cedex, France; telephone: (33) (0)5.62.41.73.00; facsimile: (33) (0)5.62.41.76.54; or the Product Support Manager, SOCATA—Groupe Aerospatiale, North Perry Airport, 7501 Pembroke Road, Pembroke Pines, Florida 33023; telephone: (954) 894-1160; facsimile: (954) 964-4191. You may view this information at the Federal Aviation Administration (FAA), Central Region, Office of the Regional Counsel, Attention: Rules Docket No. 2001-CE-01-AD, 901 Locust, Room 506, Kansas City, Missouri 64106; or at the Office of the Federal Register, 800 North Capitol Street, NW., suite 700, Washington, DC.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What events have caused this AD? The Direction Générale de l'Aviation Civile (DGAC), which is the airworthiness authority for France, recently notified FAA that an unsafe condition may exist on all SOCATA Model TB 9, TB 10, TB 20, TB 21, and TB 200 airplanes. The DGAC reports an occurrence of the lower rudder separating from the control linkage on a Model TB 9 airplane. A break in the lower rudder hinge fitting caused this problem and was found during a scheduled inspection on the airplane with more than 6,000 hours time-in-service (TIS). The DGAC reports that material fatigue caused cracks in the lower rudder hinge fitting.

What is the potential impact if FAA took no action? If this condition is not detected and corrected, the lower rudder could detach from the control linkage with consequent loss of control of the airplane.

Has FAA taken any action to this point? We issued a proposal to amend part 39 of the Federal Aviation Regulations (14 CFR part 39) to include an AD that would apply to all SOCATA Models TB 9, TB 10, TB 20, TB 21, and TB 200 airplanes. This proposal was published in the Federal Register as a notice of proposed rulemaking (NPRM) on August 29, 2001 (66 FR 45648). The NPRM proposed to require you to repetitively inspect the lower rudder hinge fitting for cracks and repair any crack found in accordance with a repair scheme obtained from the manufacturer through the FAA.

Was the public invited to comment? The FAA encouraged interested persons to participate in the making of this amendment. We did not receive any comments on the proposed rule or on our determination of the cost to the public.

FAA's Determination

What is FAA's final determination on this issue? After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How many airplanes does this AD impact? We estimate that this AD affects 239 airplanes in the U.S. registry.

What is the cost impact of this AD on owners/operators of the affected airplanes? We estimate the following costs to accomplish the inspection:

Labor cost | Parts cost | Total cost per airplane | Total cost on U.S. operators
3 workhours × $60 per hour = $180 | No parts required to perform the inspection | $180 | $180 × 239 = $43,020.

We have no method of determining the number of repetitive inspections each owner/operator will incur over the life of each of the affected airplanes so the cost impact is based on the initial inspection.

We estimate the following costs to accomplish any necessary repairs that will be required based on the results of the inspections. We have no way of determining the number of repairs each owner/operator will incur over the life of each of the affected airplanes based on the results of the inspections.

Labor cost | Parts cost | Total cost per airplane
7 workhours × $60 = $420 | $300 | $720

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2001-23-04 Socata—Groupe Aerospatiale: Amendment 39-12501; Docket No. 2001-CE-01-AD.

(a) What airplanes are affected by this AD? This AD affects the following Model TB 9, TB 10, TB 20, TB 21, and TB 200 airplanes, all serial numbers, that are certificated in any category.

(b) Who must comply with this AD? Anyone who wishes to operate any of the above airplanes must comply with this AD.

(c) What problem does this AD address? The actions specified by this AD are intended to detect and correct fatigue cracks in the lower rudder hinge fitting. This condition could cause the lower rudder to detach from the control linkage with consequent loss of control of the airplane.

(d) What actions must I accomplish to address this problem? To address this problem, you must accomplish the following:

Actions | Compliance | Procedures
(1) Visually inspect the lower rudder hinge fitting for cracks | Upon accumulating 2,000 hours time-in-service (TIS) on the rudder hinge fitting or within the next 100 hours TIS after January 4, 2002 (the effective date of this AD), whichever occurs later, and thereafter at intervals not to exceed 12 calendar months | In accordance with ACCOMPLISHMENT INSTRUCTIONS section of SOCATA Service Bulletin SB 10-114 55, dated September 2000, and the applicable aircraft maintenance manual.
(2) If any crack is found during any inspection required in paragraph (d)(1) of this AD, accomplish the following: (i) Obtain a repair scheme from the manufacturer through the FAA at the address specified in paragraph (f) of this AD; and (ii) Incorporate this repair scheme | Prior to further flight after the inspection required in paragraph (d)(1) of this AD | In accordance with the repair scheme obtained from the SOCATA Groupe AEROSPATIALE, Customer Support, Aerodrome Tarbes-Ossun-Lourdes, BP 930-F65009 Tarbes Cedex, France; telephone: (33) 05.62.41.76.68; facsimile: (33) 06.07.32.62.24; or Product Support Manager, SOCATA—Groupe Aerospatiale, North Perry Airport, 7501 Pembroke Road, Pembroke Pines, Florida 33023; telephone: (954) 893-1450. Obtain this repair scheme through the FAA at the address specified in paragraph (f) of this AD.
(3) Report any cracks found during the initial inspection required in paragraph (d)(1) of this AD to the FAA with a copy to SOCATA. Information collection requirements contained in this regulation have been approved by the Office of Management and Budget (OMB) under the provisions of the Paperwork Reduction Act of 1980 (44 U.S.C. 3501 et. seq.) and have been assigned OMB Control Number 2120-0056 | Within 10 days after the initial inspection required in paragraph (d)(1) of this AD or within 10 days after the effective date of this AD, whichever occurs later | Fill out the compliance form in SOCATA Service Bulletin SB 10-11455, dated September 2000. Send it to the FAA at the address specified in paragraph (f) of this AD. Send a copy to SOCATA at the address in paragraph (h) of this AD.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64106; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with SOCATA Service Bulletin SB 10-114-55, dated September 2000. The Director of the Federal Register approved this incorporation by reference under 5 U.S.C. 552(a) and 1 CFR part 51. You can get copies from SOCATA Groupe Aerospatiale, Customer Support, Aerodrome Tarbes-Ossun-Lourdes, BP 930—F65009 Tarbes Cedex, France; or the Product Support Manager, SOCATA—Groupe Aerospatiale, North Perry Airport, 7501 Pembroke Road, Pembroke Pines, Florida 33023. You can look at copies at the FAA, Central Region, Office of the Regional Counsel, 901 Locust, Room 506, Kansas City, Missouri, or at the Office of the Federal Register, 800 North Capitol Street, NW, suite 700, Washington, DC.

(i) When does this amendment become effective? This amendment becomes effective on January 4, 2002.

Note 2: The subject of this AD is addressed in French AD Number 2001-002(A), dated January 10, 2001.

Issued in Kansas City, Missouri, on November 5, 2001.
Michael Gallagher,
Manager, Small Airplane Directorate, Aircraft Certification Service.

[FR Doc. 01-28333 Filed 11-16-01; 8:45 am]

BILLING CODE 4910-13-P